DEPARTMENT OF THE INTERIOR

Fish and Wildlife Service

50 CFR Part 20

[FWS-R9-MB-2009-0003]

[91200-1231-9BPP-L2]

[RIN 1018-AW46]

Migratory Bird Hunting; Approval of Tungsten-Iron-Fluoropolymer Shot Alloys as Nontoxic for Hunting Waterfowl and Coots

AGENCY: Fish and Wildlife Service, Interior.

ACTION: Final rule; correcting amendment.

SUMMARY: On October 20, 2009, we, the U.S. Fish and Wildlife Service, published a final rule approving tungsten-iron-fluoropolymer (TIF) shot for hunting waterfowl and coots. The information provided in that rule regarding appropriate field testing devices for this type of nontoxic shot contained an error. We now correct that error.

DATES: This rule takes effect on November 9, 2009.

FOR FURTHER INFORMATION CONTACT: George T. Allen, Division of Migratory Bird Management, U.S. Fish and Wildlife Service, 703-358-1825).

SUPPLEMENTARY INFORMATION:

Background

On October 20, 2009, we published a final rule with an immediate effective date to approve tungsten-iron-fluoropolymer (TIF) shot for hunting waterfowl and coots (74 FR 53665). Our changes to the Code of Federal Regulations (CFR) at 50 CFR 20.21(j) indicated that a magnet or a Hot Shot® device was suitable for testing shotshells loaded with TIF in the field. However, a regular magnet is not sufficient for testing the TIF alloys of the highest sectional densities.

We amend our table of approved nontoxic shot types at 50 CFR 20.21(j) to clarify that either a rare earth magnet (or a set of small rare earth magnets) or a Hot Shot® device is needed for testing TIF shot in the field. We do so by inserting the words “rare earth” at the appropriate place in the table.

This information appears in the last column of the table under the heading “Field testing device”. The data in this column is strictly informational, not regulatory. Because the nontoxic shot regulations are used by both waterfowl hunters and law enforcement officers, we include information on suitable testing devices as a useful addition to the table.

Administrative Procedure Act

We find good cause to waive notice and comment on this correction, pursuant to 5 U.S.C. 553(b)(3)(B), and the 30-day delay in effective date pursuant to 5 U.S.C. 553(d). Notice and comment are unnecessary because this rule merely corrects a nonregulatory portion of the regulations. The substance of the regulations remains unchanged. Therefore, this correction is being published as a final regulation and is effective as shown under DATES.

List of Subjects in 50 CFR Part 20

Exports, Hunting, Imports, Reporting and recordkeeping requirements, Transportation, Wildlife.

Accordingly, we amend part 20, subchapter B, chapter I of title 50 of the Code of Federal Regulations as follows:

PART 20—[AMENDED]

1. The authority citation for part 20 continues to read as follows:

Authority: Migratory Bird Treaty Act, 40 Stat. 755, 16 U.S.C. 703-712; Fish and Wildlife Act of 1956, 16 U.S.C. 742a-j; Pub. L. 106-108, 113 Stat. 1491, Note Following 16 U.S.C. 703.

2. Amend § 20.21(j) by adding the words “Rare Earth” in front of the word “Magnet” in the last column and last row of the table.

Dated: November 4, 2009
Sara Prigan,
Federal Register Liaison.

[FR Doc. E9-26912 Filed 11-06-09; 8:45 am]

BILLING CODE 4310-55-S